DEPARTMENT OF TRANSPORTATION

Federal Aviation Administration

14 CFR Part 39

[Docket No. FAA-2008-0642; Directorate Identifier 2008-NM-039-AD; Amendment 39-15643; AD 2008-17-05]

RIN 2120-AA64

Airworthiness Directives; Empresa Brasileira de Aeronautica S.A. (EMBRAER) Model EMB-135 Airplanes, and Model EMB-145, -145ER, -145MR, -145LR, -145XR, -145MP, and -145EP Airplanes

AGENCY: Federal Aviation Administration (FAA), Department of Transportation (DOT).

ACTION: Final rule.

SUMMARY: The FAA is superseding an existing airworthiness directive (AD), which applies to certain EMBRAER Model EMB-135 airplanes and Model EMB-145, -145ER, -145MR, -145LR, -145XR, -145MP, and -145EP airplanes. That AD currently requires replacing the metallic tubes enclosing the vent and pilot valve wires in the left- and right-hand wing fuel tanks with non-conductive hoses. This new AD adds airplanes to the applicability of the existing AD. This AD results from fuel system reviews conducted by the manufacturer. We are issuing this AD to prevent an ignition source inside the fuel tank that could ignite fuel vapor and cause a fuel tank explosion and loss of the airplane.

DATES: This AD becomes effective September 23, 2008.

The Director of the Federal Register approved the incorporation by reference of a certain publication listed in the AD as of September 23, 2008.

On July 19, 2007 (72 FR 32780, June 14, 2007), the Director of the Federal Register approved the incorporation by reference of certain other documents.

ADDRESSES: For service information identified in this AD, contact Empresa Brasileira de Aeronautica S.A. (EMBRAER), P.O. Box 343—CEP 12.225, Sao Jose dos Campos—SP, Brazil.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Discussion

The FAA issued a notice of proposed rulemaking (NPRM) to amend 14 CFR part 39 to include an AD that supersedes AD 2007-12-17, amendment 39-15095 (72 FR 32780, June 14, 2007). The existing AD applies to certain EMBRAER Model EMB-135 airplanes and Model EMB-145, -145ER, -145MR, -145LR, -145XR, -145MP, and -145EP airplanes. That NPRM was published in the Federal Register on June 20, 2008 (73 FR 35098). That NPRM proposed to continue to require replacing the metallic tubes enclosing the vent and pilot valve wires in the left- and right-hand wing fuel tanks with non-conductive hoses. That NPRM also proposed to add airplanes to the applicability of the existing AD.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD. The average labor rate is $80 per work hour.

Estimated Costs
Action | Work hours | Parts | Cost per airplane | Number of U.S.-registered airplanes | Fleet cost
Tube replacement (required by AD 2007-12-17) | 1 | $1,121 (for Model EMB-135BJ airplanes) | $1,201 | 30 | $36,030
| 1 | $1,788 (for remaining airplanes) | 1,868 | 593 | 1,107,724
Tube replacement for additional airplanes | 1 | $1,121 (for Model EMB-135BJ airplanes) | 1,201 | 11 | 13,211
| 1 | $1,788 (for remaining additional airplanes) | 1,868 | 75 | 140,100

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-15095 (72 FR 32780, June 14, 2007) and by adding the following new airworthiness directive (AD):

2008-17-05 Empresa Brasileira De Aeronautica S.A. (EMBRAER: Amendment 39-15643. Docket No. FAA-2008-0642; Directorate Identifier 2008-NM-039-AD.

Effective Date

(a) This AD becomes effective September 23, 2008.

Affected ADs

(b) This AD supersedes AD 2007-12-17.

Applicability

(c) This AD applies to all EMBRAER Model EMB-135ER, -135KE, -135KL, -135LR, and -135BJ airplanes; and all Model EMB-145, -145ER, -145MR, -145LR, -145XR, -145MP, and -145EP airplanes; certificated in any category.

Unsafe Condition

(d) This AD results from fuel system reviews conducted by the manufacturer. We are issuing this AD to prevent an ignition source inside the fuel tank that could ignite fuel vapor and cause a fuel tank explosion and loss of the airplane.

Compliance

(e) You are responsible for having the actions required by this AD performed within the compliance times specified, unless the actions have already been done.

Requirements of AD 2007-12-17 Including Additional Airplanes:

Tube Replacement

(f) For airplanes identified in the applicable service bulletins specified in paragraphs (f)(1) and (f)(2) of this AD: Within 5,000 flight hours or 48 months after July 19, 2007 (the effective date of AD 2007-12-17), whichever occurs first, replace the metallic tubes enclosing the vent and pilot valve wires in the left- and right-hand wing fuel tanks with new, improved, non-conductive hoses, in accordance with the Accomplishment Instructions of the service bulletins specified in paragraph (f)(1) or (f)(2) of this AD, as applicable.

(1) For Model EMB-135ER, -135KE, -135KL, -135LR, -145, -145ER, -145MR, -145LR, -145XR, -145MP, and -145EP airplanes: EMBRAER Service Bulletin 145-28-0023, Revision 07, dated February 7, 2007.

(2) For Model EMB-135BJ airplanes: EMBRAER Service Bulletin 145LEG-28-0018, Revision 01, dated April 20, 2005.

(g) For Model EMB-135ER, -135KE, -135KL, -135LR, -145, -145ER, -145MR, -145LR, -145XR, -145MP, and -145EP airplanes that are not identified in paragraph (f)(1) of this AD: Within 5,000 flight hours or 48 months after the effective date of this AD, whichever occurs first, replace the metallic tubes enclosing the vent and pilot valve wires in the left- and right-hand wing fuel tanks with new, improved, non-conductive hoses; in accordance with the Accomplishment Instructions of EMBRAER Service Bulletin 145-28-0023, Revision 11, dated December 4, 2007.

Credit for Actions Done Using Previous Service Information

(h) Actions accomplished before the effective date of this AD in accordance with the service information specified in Table 1 of this AD are considered acceptable for compliance with the corresponding actions of this AD.

Table 1—Acceptable EMBRAER Service Information
EMBRAER Service Bulletin— | Revision level— | Dated—
145-28-0023 | (¹) | April 19, 2004.
145-28-0023 | 01 | June 9, 2004.
145-28-0023 | 02 | November 8, 2004.
145-28-0023 | 03 | April 27, 2005.
145-28-0023 | 04 | November 7, 2005.
145-28-0023 | 05 | May 15, 2006.
145-28-0023 | 06 | October 31, 2006.
145-28-0023 | 07 | February 7, 2007.
145-28-0023 | 08 | May 25, 2007.
145-28-0023 | 09 | July 30, 2007.
145-28-0023 | 10 | October 28, 2007.
145LEG-28-0018 | (¹) | April 23, 2004.
¹ Original.

Alternative Methods of Compliance (AMOCs)

(i) The Manager, International Branch, ANM-116, FAA, Transport Airplane Directorate, has the authority to approve AMOCs for this AD, if requested using the procedures found in 14 CFR 39.19. Send information to ATTN: Todd Thompson, Aerospace Engineer, International Branch, ANM-116, FAA, Transport Airplane Directorate, 1601 Lind Avenue, SW., Renton, Washington 98057-3356; telephone (425) 227-1175; fax (425) 227-1149. Before using any approved AMOC on any airplane to which the AMOC applies, notify your appropriate principal inspector (PI) in the FAA Flight Standards District Office (FSDO), or lacking a PI, your local FSDO.

Related Information

(j) None.

Material Incorporated by Reference

(k) You must use the applicable service information listed in Table 2 of this AD to perform the actions that are required by this AD, unless the AD specifies otherwise.

Table 2—Material Incorporated by Reference
EMBRAER Service Bulletin— | Revision level— | Dated—
145LEG-28-0018 | 01 | April 20, 2005.
145-28-0023 | 07 | February 7, 2007.
145-28-0023 | 11 | December 4, 2007.

(1) The Director of the Federal Register approved the incorporation by reference of EMBRAER Service Bulletin 145-28-0023, Revision 11, dated December 4, 2007, in accordance with 5 U.S.C. 552(a) and 1 CFR part 51.

(2) On July 19, 2007 (72 FR 32780, June 14, 2007), the Director of the Federal Register approved the incorporation by reference of EMBRAER Service Bulletin 145-28-0023, Revision 07, dated February 7, 2007; and EMBRAER Service Bulletin 145LEG-28-0018, Revision 01, dated April 20, 2005.

(3) Contact Empresa Brasileira de Aeronautica S.A. (EMBRAER), P.O. Box 343—CEP 12.225, Sao Jose dos Campos—SP, Brazil, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on August 6, 2008.
Ali Bahrami,
Manager, Transport Airplane Directorate, Aircraft Certification Service.

[FR Doc. E8-18808 Filed 8-18-08; 8:45 am]

BILLING CODE 4910-13-P